DEPARTMENT OF EDUCATION

Call for Nominations for Service as a Member of the National Assessment Governing Board

AGENCY: U.S. Department of Education, National Assessment Governing Board.

SUMMARY: The Secretary of Education, the Honorable Arne Duncan, and the National Assessment Governing Board seek your assistance in identifying qualified individuals to serve as members of the Governing Board for service terms beginning October 1, 2010.

SUPPLEMENTARY INFORMATION: The National Assessment Governing Board is established under section 412 of the National Education Statistics Act of 1994, as amended. In 1988 Congress passed legislation creating the Board, which is responsible for setting policy for the National Assessment of Educational Progress (NAEP)—also known as The Nation's Report Card. The legislation has been amended and reauthorized several times since 1988, most recently in 2002. The statute provides that “* * * the Secretary and the Assessment Board shall ensure at all times that the membership of the Assessment Board reflects regional, racial, gender and cultural balance and diversity—and that the Assessment Board exercises its independent judgment, free from inappropriate influences and special interests.” Currently, the Board is comprised of 26 members who are widely representative of our nation and who serve four-year terms. More detailed material about the Governing Board and NAEP is available at http://www.nagb.org.

As Board member vacancies occur, new members are appointed by the Secretary from among candidates forwarded to the Secretary by the Board. The Board solicits nominees via broad outreach to organizations, and individuals. For each vacant position, the Board nominates six persons who, by reason of experience or training, are qualified to serve as a Board member in a particular category.

For 2010 the Board must nominate candidates for five positions in the following five categories:

1. Chief State School Officer

2. Fourth Grade Teacher

3. Eighth Grade Teacher

4. General Public/Parent

5. Secondary School Principal

The Board invites nominations of potential candidates in one or more of the five categories listed above. For the Board to consider a candidate, it is essential to have the following information for each individual being nominated:

Nominating letter. This letter should state the category for which the individual is being nominated, and describe the candidate's qualifications as they relate to the Board's policy responsibilities for the National Assessment of Educational Progress.

Full resume or curriculum vitae. A full resume or vitae is necessary to evaluate a candidate's qualifications. Please note that a short biographical sketch is not sufficient for this purpose. To receive full consideration, all recommendations must be received by the Governing Board no later than September 30, 2009. The Board is seeking the very best nominees to recommend to the Secretary, and in doing so, to have the broadest possible representation. Current members of the Board who have not completed two full terms, and who are otherwise eligible, may be re-nominated.

Board members are considered special Federal employees. As such, they receive an honorarium while attending Board meetings; must abide by applicable laws and policies, including conflict of interest regulations; and are reimbursed for travel and other expenses in accordance with Federal Travel Regulations. The Board meets regularly four times a year, and committees of the Board meet at other times, as necessary.

Nominations may be submitted via mail, e-mail, or fax to: Dr. Mary Crovo, Deputy Executive Director, National Assessment Governing Board, 800 North Capitol Street, NW., Suite 825, Washington, DC 20002-4233, Phone: (202) 357-6938, Fax: (202) 357-6945, E-mail: Mary.Crovo@ed.gov.

FOR FURTHER INFORMATION CONTACT: Mary Crovo, Deputy Executive Director, National Assessment Governing Board, 800 North Capitol Street, NW., Suite 825, Washington, DC, 20002-4233, Telephone: (202) 357-6938.

Electronic Access to This Document: You may view this document, as well as all other documents of this Department published in the Federal Register, in text or Adobe Portable Document Format (PDF) on the Internet at the following site: http://www.ed.gov/news/fedregister/index.html To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 31, 2009.
Cornelia Orr,
Executive Director, National Assessment Governing Board, U.S. Department of Education.

[FR Doc. E9-21305 Filed 9-2-09; 8:45 am]

BILLING CODE 4000-01-P